DEPARTMENT OF THE INTERIOR

Fish and Wildlife Service

[FWS-R7-NWRS-2023-N071; FXRS12630700000-234-FF07R08000; OMB Control Number 1018-0141]

Agency Information Collection Activities; Alaska Guide Service Evaluation

AGENCY: Fish and Wildlife Service, Interior.

ACTION: Notice of information collection; request for comment.

SUMMARY: In accordance with the Paperwork Reduction Act of 1995, we, the U.S. Fish and Wildlife Service (Service), are proposing to renew an information collection with revisions.

DATES: Interested persons are invited to submit comments on or before November 17, 2023.

ADDRESSES: Written comments and recommendations for the proposed information collection should be sent within 30 days of publication of this notice to https://www.reginfo.gov/public/do/PRAMain. Find this particular information collection by selecting “Currently under Review—Open for Public Comments” or by using the search function. Please provide a copy of your comments to the Service Information Collection Clearance Officer, U.S. Fish and Wildlife Service, MS: PRB (JAO/3W), 5275 Leesburg Pike, Falls Church, VA 22041-3803 (mail); or by email to Info_Coll@fws.gov. Please reference “1018-0141” in the subject line of your comments.

FOR FURTHER INFORMATION CONTACT: Madonna L. Baucum, Service Information Collection Clearance Officer, by email at Info_Coll@fws.gov, or by telephone at (703) 358-2503. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: In accordance with the Paperwork Reduction Act (PRA, 44 U.S.C. 3501 et seq.) and its implementing regulations at 5 CFR 1320.8(d)(1), all information collections require approval under the PRA. We may not conduct or sponsor and you are not required to respond to a collection of information unless it displays a currently valid OMB control number.

On April 19, 2023, we published in the Federal Register (88 FR 24207) a notice of our intent to request that OMB approve this information collection. In that notice, we solicited comments for 60 days, ending on June 20, 2023. The Service also published the Federal Register notice (and both forms) on Regulations.gov (Docket No. FWS-R7-NWRS-2023-0005) to provide the public with an additional method to submit comments (in addition to the typical Info_Coll@fws.gov email and U.S. mail submission methods). We received the following comments in response to that notice:

Comment 1: Anonymous electronic comment received May 6, 2023, via Regulations.gov (FWS-R7-NWRS-2023-0005-0004): “I recommend prohibiting commercial guiding on public lands. It is not necessary or appropriate. Many of them do something illegal [because] they have a client paying money and that alone pressures them to same day airborne, herd animals, bait, and the list goes on and on.

There are plenty of hunters in Alaska if some rich fancy pants from Germany wants a trophy well he can afford to spend the time and money to learn the skill.”

Agency Response to Comment 1: This comment does not address the information collection requirements. No response required.

Comment 2: Electronic comment received May 16, 2023, via Regulations.gov (FWS-R7-NWRS-2023-0005-0005) from Josh Hayes: “Data collection is necessary in order to properly understand guide/client/public interaction within the Refuges. In the high use areas, and in competitive permitted areas of Refuges in Alaska I feel it is paramount that commercial operators are regularly evaluated. Modern data collection is often electronic via phones, apps, internet based reporting etc. Due to limited internet/cell phone access and connectivity in many areas of Alaska—these collection methods are convenient only when allowing the Client to respond/reply within a fairly broad timeframe.

As a commercial operator collecting in depth personal information from every client/guest is not necessarily convenient. Often due to inclement weather, written documentation is nearly impossible, and phones/devices often prove difficult to operate in rain, snow, or colder climates. Many clients/guests are invitees of an individual or entity that has booked the trip on the client/guests behalf. For the commercial operators it would streamline data collection processes if only the individuals booking the trip provided their personal data—FWS could then solicit those individuals directly. Often times commercial operators only have the information of the point of contact for trip bookings and are not in contact with the other invitees until the day of the trip. Data Collection/Evaluation Comments;

I believe that the following questions should be asked to individual clients being hosted by the guides and outfitters within all refuges:

1. Did the guide/outfitter create and express accurate expectations prior to booking?

2. Was the guide/outfitter honest regarding trip opportunities prior to booking? On the web, social media platforms, advertisements etc...?

3. What was the level of public access and participation within the Refuge?”

Agency Response to Comment 2 (by numbered recommendation):

1. Did the guide/outfitter create and express accurate expectations prior to booking? Section 2 Question 4 asks the respondent to rate their level of agreement with the following statement “My guided experience was what I expected based on the guide's advertisement”. We believe this question captures what is being expressed by the commenter. We recommend no change.

2. Was the guide/outfitter honest regarding trip opportunities prior to booking? On the web, social media platforms, advertisements etc...? Section 2 Question 4 asks the respondent to rate their level of agreement with the following statement “My guided experience was what I expected based on the guide's advertisement”. We believe this question captures what is being expressed by the commenter. We recommend no change.

3. What was the level of public access and participation within the Refuge? It is unclear what the commenter is requesting clients be asked about “level of public access” and “participation”. We recommend no change.

Comment 3: Electronic comment received May 18, 2023, via Regulations.gov (FWS-R7-NWRS-2023-0005-0006) from Michael Zweng:

“Section #1—New form question #1. Although I explain to my clients in detail where we hunt, I think the question should have some specifics to guide the clients such as: name the bay where you hunted, the river you hunted, the mountain range where you hunted.

I would eliminate question #5. This is going to guided hunting clients so we already know the answer.

Section #2—New for question #1. I provide detailed client handbook to all my clients that explain everything on question #1. However, some clients are not necessarily interested in this aspect of the refuge and it goes in one ear and out the other. They may not absorb it and a guide may get a poor score just because the client did not absorb the information. This may reflect poorly on the guide and I think this question should be removed.

Section #3—New form question #2. This question should be removed.

Section #4—New form Question #1. This question implies the guide did some things poorly. The client may feel obligated to fill in this section even if it was the best outdoor experience they ever had. Maybe ask the question “Please list anything your guide could have done to make your experience better”. You will probably get feedback about better food and better accommodations but my hunts are sold as adventurous backpack style hunting so it was explained what we eat and how we hunt.

Section #5—This entire section should be eliminated. It has no bearing on the quality of guide services provided and adds no value to the intended purpose of this questionnaire. I feel a lot of my clients would fail to complete this entire questionnaire if they were asked these questions.”

Agency Response to Comment 3 (by section):

Section #1: We believe this open-ended style question allows for the respondent to have maximum flexibility in describing where on the refuge their guided trip occurred. We recommend no

change. This Form is not specific to competitively awarded guide service evaluations, but rather to all guided services on refuges (including noncompetitive guided activities as well as nonconsumptive uses). We recommend no change.

Section #2: The question asks the respondent to rate their level of agreement with the statement “Your guide(s) provided information about . . .” not how well the client understood the information. The information gathered from this question is of interest to the National Wildlife Refuge System as it pertains to education and interpretation opportunities for guided clients. We recommend no change.

Section #3: Understanding accessibility accommodations on National Wildlife Refuges is important to ensuring visitors of different physical abilities can experience Refuges. We recommend no change.

Section #4: We do not believe this question make any implications about the guides' services. By asking how a guide might “have made your experience better” (as asked in the Form), the Service may learn valuable feedback about visitor preferences. This initial effort (i.e., revision of the Form) is necessary to conduct a 2-year pilot of the revised Guide Service Evaluation Form. What we learn will help the Service determine whether further Form revision is needed. We recommend no change.

Section #5: The National Wildlife Refuge System is interested in who visits Refuges to inform Visitor Services outreach activities. We recommend no change.

Comment 4: Anonymous electronic comment received June 4, 2023, via Regulations.gov (FWS-R7-NWRS-2023-0005-0007): “Please don't allow hunting, fishing, and trapping on any of these wildlife refuge locations anymore. Please protect the animals. These killings don't benefit these animals in any way and this killing business is unnecessary.”

Agency Response to Comment 4: This comment does not address the information collection; no response required.

Comment 5: Electronic comment received June 19, 2023, via Regulations.gov (FWS-R7-NWRS-2023-0005-0008) from Jon M. DeVore, Attorney, on behalf of the Alaska Professional Hunters Association (APHA). Excerpts from the letter that express perspectives about the AK Guide Evaluation Form are below:

“1. So, the proposed Alaska Guide Service Evaluation form should set a specific goal of how best to gather the information it seeks in a manner that is most likely to obtain the greatest number of respondents.

2. APHA recommends that the FWS should be more transparent about how the Alaska Guide Service Evaluations may be used by the FWS.

3. This is not a suggestion that client evaluations be the only tool used to evaluate guides, but we do recommend that evaluations be available as a reference for the ranking panel and then used as a decision factor by the refuge manager.

4. However, if it is the intent that the name and operations of individual guides are to be made public, the FWS should notify in advance the guide and operations.

5. For example, bad weather may have caused a less than optimal experience, so we recommend that the FWS take any such factors into consideration when utilizing client feedback that might be pre-disposed to be negative for reasons unrelated to the guide personally.

6. It is critical to ask, up front, if the hunter was successful in harvesting their target species then bifurcate the evaluations into two broad categories: successful harvest and unsuccessful harvest.

7. Once harvest and weather are controlled for, clients should evaluate their trip first and foremost on safety.

8. However, the Federal Register is not transparent on how the information will be ultimately used.”

Agency Response to Comment 5: Comment responses by response number:

1. This comment addresses post-data collection decision making but does not address the content of the Guide Service Evaluation Form; no response required.

2. This comment addresses post-data collection decision making but does not address the content of the Guide Service Evaluation Form; no response required. This initial effort (i.e., revision of the Form) is necessary to conduct a 2-year pilot of the revised Guide Service Evaluation Form. What we learn will help the Service determine whether further Form revision is needed and how we will use this information.

3. This comment addresses post-data collection decision making but does not address the content of the Guide Service Evaluation Form; no response required. This initial effort (i.e., revision of the Form) is not specific to competitively awarded guide service evaluations, but rather to all guided services on refuges (including noncompetitive guided activities as well as nonconsumptive uses).

4. This comment addresses data management but does not address the content of the Guide Service Evaluation Form; no response required. All survey respondent names and responses will remain anonymous to the public.

5. There are many factors that may impact the guided client experience on refuges. It is not possible for the Guide Service Evaluation Form to analyze all factors that are outside of the control of the guide service provider or the Service. This initial effort (i.e., revision of the Form) is necessary to conduct a 2-year pilot of the revised Guide Service Evaluation Form. What we learn will help the Service determine whether further Form revision is needed.

6. This Form is not specific to competitively awarded guide service evaluations, but rather to all guided services on refuges (including noncompetitive guided activities as well as nonconsumptive uses). This initial effort (i.e., revision of the Form) is necessary to conduct a 2-year pilot of the revised Guide Service Evaluation Form. What we learn will help the Service determine whether further Form revision is needed.

7. Safety concerns are captured in Section 2 Question 2 of the Guide Survey Evaluation Form, “Please rate your level of agreement with the following statement: your guide used skills that kept you safe”.

8. This comment addresses post-data collection decision-making but does not address the content of the Guide Service Evaluation Form; no response required. This initial effort (i.e., revision of the Form) is necessary to conduct a 2-year pilot of the revised Guide Service Evaluation Form. What we learn will help the Service determine whether further Form revision is needed and how we will use this information.

As part of our continuing effort to reduce paperwork and respondent burdens, we invite the public and other Federal agencies to comment on new, proposed, revised, and continuing collections of information. This helps us assess the impact of our information collection requirements and minimize the public's reporting burden. It also helps the public understand our information collection requirements and provide the requested data in the desired format.

We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments that you submit in response to this notice are a matter of public record. We will include or summarize each comment in our request to OMB to approve this information collection request (ICR). Before including your address, phone number, email address, or other personal identifying information in your comment, you should be aware that your entire comment—including your personal identifying information—may be made publicly available at any time. While you can ask us in your comment to withhold your personal identifying information from public review, we cannot guarantee that we will be able to do so.

Abstract: We collect information via Form 3-2349 (Alaska Guide Service Evaluation) to help us evaluate commercial guide services on our national wildlife refuges in the State of Alaska (State). The National Wildlife Refuge Administration Act of 1966, as amended (16 U.S.C. 668dd-ee), authorizes us to permit uses, including commercial visitor services, on national wildlife refuges when we find the activity to be compatible with the purposes for which the refuge was established. With the objective of making available a variety of quality visitor services for wildlife-dependent recreation on National Wildlife Refuge System lands, we issue permits for commercial guide services, including big game hunting, sport fishing, wildlife viewing, river trips, and other guided activities. We use FWS Form 3-2349 as a method to:

• Monitor the quality of services provided by commercial guides.

• Gauge client satisfaction with the services.

• Assess the impacts of the activity on refuge resources.

The client is the best source of information on the quality of commercial guiding services. We collect:

• Client name.

• Guide name(s).

• Type of guided activity.

• Dates and location of guided activity.

• Information on the services received, such as the client's expectations, safety, environmental impacts, and client's overall satisfaction.

We encourage respondents to provide any additional comments that they wish regarding the guide service or refuge experience, and ask whether or not they wish to be contacted for additional information.

The above information, in combination with State-required guide activity reports and contacts with guides and clients in the field, provides a comprehensive method for monitoring permitted commercial guide activities. A regular program of client evaluation helps refuge managers detect potential problems with guide services so that we can take corrective actions promptly. In addition, we use this information during the competitive selection process for big game and sport fishing guide permits to evaluate a renewing applicant's ability to provide a quality guiding service.

The Service is actively reviewing the current evaluation form to identify ways to improve the information collected to:

• Provide more quantifiable and defensible data;

• Provide statistical data for each completed and submitted form; and

• Translate the client responses into useful information, so refuge management can make better informed decisions.

Proposed Revisions

Alaska Guide Service Evaluation (Form 3-2538) (NEW)—With this submission, the Service will propose a new form (Form 3-2538, “Alaska Guide Service Evaluation”) to OMB for approval. The Service initially proposed this form for viability testing under OMB Control No. 1090-0011, “DOI Generic Clearance for the Collection of Qualitative Feedback on Agency Service Delivery,” in our December 22, 2020, Federal Register notice (85 FR 83604). However, the pandemic significantly limited the number of guide trips during the 2020 through 2022 seasons. In addition, changes to Control No. 1090-0011 now prohibit testing of new forms. We are now proposing the form to be approved under this collection (Control No. 1018-0141) rather than for usability testing under Control No. 1090-0011.

In order to effectively adapt visitor services programming in the Alaska Region, we need to understand visitor satisfaction. To that end, the Alaska Guide Service Evaluation team, comprised of representatives from across the Region, with the assistance of the Human Dimensions Branch and the Service Information Collection Clearance Officer, has revised the current guide evaluation form. The revised form provides the region's refuges with a useful and quantitative tool that reflects social science survey design best practices, and that is standardized for use across refuges in the region. Form 3-2538 would collect the following information from participants in the Alaska guide program:

• Details regarding the guided trip—name of the person(s) or outfitters guiding the trip and top three purposes for visiting the refuge.

• Experiences with guided trip.

• Level of satisfaction with guided trip and details regarding purpose of visit to refuge.

• Suggestions for improvements.

• Details about visitor—gender; State and/or country of residence; year of birth; race or ethnicity; details regarding formal schooling; and approximate household income.

• Contact information for followup questions (optional).

Upon approval of the new Form 3-2538, the Service will review the form after two seasons to determine what, if any, changes need to be made prior to the next renewal of this collection. Individual refuge programs within Alaska will use the information collected to determine baseline guide-supported visitor experience conditions and be able to adapt management over time to continue to achieve desired guide-supported visitor experience opportunities on Alaska's refuges.

Alaska Guide Service Evaluation (Form 3-2349) (DISCONTINUE)—With this submission, and upon approval of Form 3-2538, the Service requests to discontinue the original Alaska Guide Service Evaluation (Form 3-2349).

The public may request copies of any form contained in this information collection by sending a request to the Service Information Collection Clearance Officer (see ADDRESSES).

Title of Collection: Alaska Guide Service Evaluation.

OMB Control Number: 1018-0141.

Form Number: Forms 3-2349 and 3-2538.

Type of Review: Revision of a currently approved collection.

Respondents/Affected Public: Clients of permitted commercial guide service providers.

Total Estimated Number of Annual Respondents: 300.

Total Estimated Number of Annual Responses: 300.

Estimated Completion Time per Response: 20 minutes.

Total Estimated Number of Annual Burden Hours: 100.

Respondent's Obligation: Voluntary.

Frequency of Collection: One time, following use of commercial guide services.

An agency may not conduct or sponsor and a person is not required to respond to a collection of information unless it displays a currently valid OMB control number.

The authority for this action is the Paperwork Reduction Act of 1995 (44 U.S.C. 3501 et seq.).

Madonna Baucum,
Information Collection Clearance Officer, U.S. Fish and Wildlife Service.

[FR Doc. 2023-22963 Filed 10-17-23; 8:45 am]

BILLING CODE 4333-15-P